DEPARTMENT OF TRANSPORTATION

Federal Railroad Administration

[Docket No. FRA-2025-0012]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On March 12, 2025, FRA published a notice providing a 60-day period for public comment on the ICR. FRA received no comments in response to the notice.

DATES: Interested persons are invited to submit comments on or before June 16, 2025.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On March 12, 2025, FRA published a 60-day notice in the Federal Register soliciting public comment on the ICR for which it is now seeking OMB approval. See 90 FR 11873. FRA has received no comments related to the proposed collection of information.

Before OMB decides whether to approve this proposed collection of information, it must provide 30 days' notice for public comment. Federal law requires OMB to approve or disapprove paperwork packages between 30 and 60 days after the 30-day notice is published. 44 U.S.C. 3507(b)-(c); 5 CFR 1320.12(d); see also 60 FR 44978, 44983, Aug. 29, 1995. The 30-day notice informs the regulated community of their opportunity to file relevant comments and affords the agency adequate time to consider public comments before it renders a decision. 60 FR 44983, Aug. 29, 1995. Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Control of Alcohol and Drug use in Railroad Operations.

OMB Control Number: 2130-0526.

Abstract: This ICR covers information collected pursuant to FRA regulations at 49 CFR part 219—Control of Alcohol and Drug Use. FRA and the railroad industry use the information collected to improve railroad safety through the detection and deterrence of alcohol and illicit drug use by railroad or contractor employees who meet the definition of “regulated employee” in § 219.5.¹ For example, FRA uses the information collected to ensure that regulated employees are subject to a random alcohol and drug testing program in which each employee has a reasonable expectation of being tested at any time while on duty. This information collection also covers on-duty railroad or contractor employees involved in a train incident who die within 12 hours of the incident due to the operation of on-track equipment, regardless of whether the employee was performing regulated service at the time. Information is also collected regarding foreign-railroads' foreign-based employees who perform train or dispatching service in the United States.

¹ On February 2, 2022, as mandated by the Substance Use-Disorder Prevention that Promotes Opioid Recovery and Treatment for Patients and Communities Act, FRA published a final rule that revised the definition of “regulated employee” to include a “MECH employee”, thereby expanding the scope of its alcohol and drug regulation to cover “all employees of railroad carriers who perform mechanical activities.” 87 FR 5719 and 5724. The definition of “regulated employees” also includes railroad and contractor employees who are “roadway workers” (as defined in 49 CFR 214.7) or who perform covered services under the hours of service laws (49 U.S.C. 21101, 21104, or 21105).

Type of Request: Extension without change (with changes in estimates) of a currently approved collection.

Affected Public: Railroads.

Form(s): FRA F 6180.73; 6180.74; 6180.75.

Respondent Universe: 745 ² railroads (includes 2 foreign-based railroads); 2,600 regulated contractors; and 160,822 regulated employees.

² In the previously published 60-day notice, 90 FR 11873, the respondent universe reflected 654 railroads. In this 30-day notice FRA has made a correction to show 745 railroads for the respondent universe.

Frequency of Submission: On occasion.

Estimated Annual Responses: 456,302.

Total Estimated Annual Burden: 2,674 Hours.

Total Estimated Burden Hour Dollar Cost Equivalent: $238,317.

FRA informs all interested parties that it may not conduct or sponsor, and a respondent is not required to respond to, a collection of information that does not display a currently valid OMB control number.

Authority: 44 U.S.C. 3501-3520.

Christopher S. Van Nostrand,
Deputy Chief Counsel.

[FR Doc. 2025-08798 Filed 5-15-25; 8:45 am]

BILLING CODE 4910-06-P